DEPARTMENT OF LABOR

Occupational Safety and Health Administration

[Docket No. NRTL3-92]

TUV Rheinland of North America, Inc.; Application for Expansion of Recognition

AGENCY: Occupational Safety and Health Administration (OSHA), Labor.

ACTION: Notice.

SUMMARY: This notice announces the application of TUV Rheinland of North America, Inc., for expansion of its recognition as a Nationally Recognized Testing Laboratory under 29 CFR 1910.7, and presents the Agency's preliminary finding. This preliminary finding does not constitute an interim or temporary approval of the application.

DATES: You may submit comments in response to this notice, or any request for extension of the time to comment, by (1) regular mail, (2) express or overnight delivery service, (3) hand delivery, (4) messenger service, or (5) FAX transmission (facsimile). Because of security-related problems there may be a significant delay in the receipt of comments by regular mail. Comments (or any request for extension of the time to comment) must be submitted by the following dates:

Regular mail and express delivery service: Your comments must be postmarked by March 19, 2003.

Hand delivery and messenger service: Your comments must be received in the OSHA Docket Office by March 19, 2003. OSHA Docket Office and Department of Labor hours of operation are 8:15 a.m. to 4:45 p.m.

Facsimile and electronic transmission: Your comments must be sent by March 19, 2003.

ADDRESSES: Regular mail, express delivery, hand-delivery, and messenger service: You must submit three copies of your comments and attachments to the OSHA Docket Office, Docket NRTL3-92, Room N-2625, U.S. Department of Labor, Occupational Safety and Health Administration, 200 Constitution Avenue, NW., Washington, DC 20210. Please contact the OSHA Docket Office at (202) 693-2350 for information about security procedures concerning the delivery of materials by express delivery, hand delivery and messenger service.

Facsimile: If your comments, including any attachments, are 10 pages or fewer, you may fax them to the OSHA Docket Office at (202) 693-1648. You must include the docket number of this notice, Docket NRTL3-92, in your comments.

Internet access to comments and submissions: OSHA will place comments and submissions in response to this notice on the OSHA Webpage http://www.osha.gov. Accordingly, OSHA cautions you about submitting information of a personal nature (e.g., social security number, date of birth). There may be a lag time between when comments and submissions are received and when they are placed on the Webpage. Please contact the OSHA Docket Office at (202) 693-2350 for information about materials not available through the OSHA Webpage and for assistance in using the Webpage to locate docket submissions. Comments and submissions will also be available for inspection and copying at the OSHA Docket Office at the address above.

Extension of Comment Period: Submit requests for extensions concerning this notice to: Office of Technical Programs and Coordination Activities, NRTL Program, Occupational Safety and Health Administration, U.S. Department of Labor, Room N3653, 200 Constitution Avenue, NW., Washington, DC 20210, or fax to (202) 693-1644.

FOR FURTHER INFORMATION CONTACT: Sherry Nicolas, Office of Technical Programs and Coordination Activities, NRTL Program, Room N3653 at the address shown immediately above for the program, or phone (202) 693-2110.

SUPPLEMENTARY INFORMATION:

Notice of Application

The Occupational Safety and Health Administration (OSHA) hereby gives notice that TUV Rheinland of North America, Inc. (TUV), has applied for expansion of its current recognition as a Nationally Recognized Testing Laboratory (NRTL). TUV's expansion request covers the use of additional test standards. OSHA's current scope of recognition for TUV may be found in the following informational web page: http://www.osha-slc.gov/dts/otpca/nrtl/tuv.html.

OSHA recognition of an NRTL signifies that the organization has met the legal requirements in § 1910.7 of Title 29, Code of Federal Regulations (29 CFR 1910.7). Recognition is an acknowledgment that the organization can perform independent safety testing and certification of the specific products covered within its scope of recognition and is not a delegation or grant of government authority. As a result of recognition, OSHA can accept products “properly certified” by the NRTL.

The Agency processes applications for initial recognition or for expansion or renewal of this recognition following requirements in appendix A to 29 CFR 1910.7. This appendix requires that the Agency publish two notices in the Federal Register in processing an application. In the first notice, OSHA announces the application and provides its preliminary finding and, in the second notice, the Agency provides its final decision on an application. These notices set forth the NRTL's scope of recognition or modifications of this scope. We maintain an informational web page for each NRTL, which details its scope of recognition. These pages can be accessed from our Web site at http://www.osha-slc.gov/dts/otpca/nrtl/index.html.

The most recent notice published by OSHA for TUV's recognition covered a renewal of recognition, which became effective on March 18, 2002 (67 FR 12051).

The current address of the testing facility (site) that OSHA recognizes for TUV is: TUV Rheinland of North America, Inc., 12 Commerce Road, Newtown, Connecticut 06470.

General Background on the Application

TUV has submitted a request, dated October 16, 2001 (see Exhibit 28), to expand its recognition to use 132 additional test standards. The NRTL Program staff has determined that 17 of the 132 standards cannot be included in the expansion because they are not “appropriate test standards,” within the meaning of 29 CFR 1910.7(c). The staff makes such determinations in processing expansion requests from any NRTL. Therefore, OSHA would include 115 standards in the expansion, as listed below. OSHA performed an on-site review of the NRTL in June 2002 and recommended the expansion in a memo dated October 17, 2002 (see Exhibit 29).

The NRTL Program staff found that a few of the standards requested by TUV have been withdrawn or replaced by the standards developing organization. Under OSHA policy, we can no longer recognize the NRTL for such test standards but the NRTL may request or OSHA can provide recognition for comparable test standards, i.e., other appropriate test standards covering similar types of product testing. The appropriate deletions and substitutions are reflected in the listing below.

ANSI A17.5 Elevators and Escalator Electrical Equipment

ANSI A90.1 Safety Standard for Belt Manlifts

ANSI C12.1 Code for Electricity Meters

ANSI C37.21 Control Switchboards

ANSI Z8.1 Commercial Laundry and Dry-cleaning Equipment and Operations

ANSI/NFPA 72 Installation, Maintenance, and Use of Protective Signaling Systems

UL 44 Rubber-Insulated Wires and Cables Thermoset-Insulated Wires and Cables

UL 45 Portable Electric Tools

UL 50 Enclosures for Electrical Equipment

UL 62 Flexible Cord and Fixture Wire

UL 65 Wired Cabinets

UL 69 Electric-Fence Controllers

UL 83 Thermoplastic-Insulated Wires and Cables

UL 150 Antenna Rotators

UL 187 X-Ray Equipment

UL 201 Garage Equipment

UL 224 Extruded Insulating Tubing

UL 231 Power Outlets

UL 234 Low Voltage Lighting Fixtures for Use in Recreational Vehicles

UL 244A Solid-State Controls for Appliances

UL 291 Automated Teller Systems

UL 294 Access Control System Units

UL 325 Door, Drapery, Gate, Louver, and Window Operators and Systems

UL 347 High-Voltage Industrial Control Equipment

UL 416 Refrigerated Medical Equipment

UL 427 Refrigerating Units

UL 429 Electrically Operated Valves

UL 444 Communications Cables

UL 466 Electric Scales

UL 467 Electrical Grounding and Bonding Equipment

UL 484 Room Air Conditioners

UL 496 Edison Base Lampholders

UL 498 Attachment Plugs and Receptacles

UL 508A Industrial Control Panels

UL 542 Lampholders, Starters, and Starter Holders for Fluorescent Lamps

UL 551 Transformer-Type Arc-Welding Machines

UL 563 Ice Makers

UL 574 Electric Oil Heaters

UL 588 Christmas-Tree and Decorative-Lighting Outfits

UL 603 Power Supplies for Use with Burglar-Alarm Systems

UL 606 Linings and Screens for Use with Burglar-Alarm Systems

UL 609 Local Burglar-Alarm Units and Systems

UL 632 Electrically Actuated Transmitters

UL 634 Connectors and Switches for Use with Burglar-Alarm Systems

UL 636 Holdup Alarm Units and Systems

UL 639 Intrusion-Detection Units

UL 664 Commercial Dry-Cleaning Machines (Type IV)

UL 676 Underwater Lighting Fixtures

UL 681 Installation and Classification of Burglar and Holdup Alarm Systems

UL 756 Coin and Currency Changers and Actuators

UL 773 Plug-In Locking-Type Photocontrols for Use With Area Lighting

UL 773A Nonindustrial Photoelectric Switches for Lighting Control

UL 813 Commercial Audio Equipment

UL 817 Cord Sets and Power-Supply Cords

UL 827 Central Station Alarm Services

UL 834 Heating, Water Supply, and Power Boilers—Electric

UL 845 Motor Control Centers

UL 869A Standard for Service Equipment

UL 884 Underfloor Raceways and Fittings

UL 916 Energy Management Equipment

UL 917 Clock-Operated Switches

UL 924 Emergency Lighting and Power Equipment

UL 983 Surveillance Cameras Units

UL 998 Humidifiers

UL 1008 Transfer Switch Equipment

UL 1023 Household Burglar-Alarm System Units

UL 1029 High-Intensity Discharge Lamp Ballasts

UL 1030 Sheathed Heater Elements

UL 1034 Burglary Resistant Electric Locking Mechanisms

UL 1054 Special-Use Switches

UL 1076 Proprietary Burglar-Alarm Units and Systems

UL 1077 Supplementary Protectors for Use in Electrical Equipment

UL 1086 Household Trash Compactors

UL 1088 Temporary Lighting Strings

UL 1090 Electric Snow Movers

UL 1097 Double Insulation Systems for Use in Electrical Equipment

UL 1206 Electric Commercial Clothes-Washing Equipment

UL 1241 Junction Boxes for Swimming Pool Lighting Fixtures

UL 1261 Electric Water Heaters for Pools and Tubs

UL 1283 Electromagnetic-Interference Filter

UL 1286 Office Furnishings

UL 1414 Across-the-Line, Antenna-Coupling, and Line-by-Pass Capacitors for Radio-Television-Type Appliances

UL 1433 Control Centers for Changing Message Type Electric Signs

UL 1447 Electric Lawn Mowers

UL 1448 Electric Hedge Trimmers

UL 1450 Motor Operated Air Compressors, Vacuum Pumps and Painting Equipment

UL 1472 Solid-State Dimming Controls

UL 1565 Positioning Devices

UL 1581 Standard for Electrical Wires, Cables, and Flexible Cords

UL 1610 Central-Station Burglar-Alarm Units

UL 1637 Home Health Care Signaling Equipment

UL 1638 Visual Signaling Appliances

UL 1740 Industrial Robots and Robotic Equipment

UL 1778 Uninterruptible Power Supply Equipment

UL 1951 Electric Plumbing Accessories

UL 1993 Self-Ballasted Lamps and Lamp Adapters

UL 1994 Low-Level Path Marking and Lighting Systems

UL 1996 Duct Heaters

UL 2044 Commercial Closed Circuit Television Equipment

UL 2097 Double Insulation Systems for Use in Electronic Equipment

UL 2106 Field Erected Boiler Assemblies

UL 2111 Overheating Protection for Motors

UL 3044 Surveillance Closed Circuit Television Equipment

UL 60335-2-8 Household and Similar Electric Appliances, Part 2; Particular Requirements for Electric Shavers, Hair Clippers and Similar Appliances

UL 60335-2-34 Household and Similar Electrical Appliances, Part 2; Particular Requirements for Motor-Compressors

UL 60730-1 Automatic Electrical Controls for Household and Similar Use; Part 1: General Requirements

UL 60730-2-6 Automatic Electrical Controls for Household and Similar Use; Part 2: Particular Requirements for Automatic Electrical Pressure Sensing Controls Including Mechanical Requirements

UL 60730-2-7 Automatic Electrical Controls for Household and Similar Use; Part 2: Particular Requirements for Timers and Time Switches

UL 60730-2-10A Automatic Electrical Controls for Household and Similar Use; Part 2: Particular Requirements for Motor Starting Relays

UL 60730-2-11A Automatic Electrical Controls for Household and Similar Use; Part 2: Particular Requirements for Energy Regulators

UL 60730-2-12A Automatic Electrical Controls for Household and Similar Use; Part 2: Particular Requirements for Electrically Operated Door Locks

UL 60730-2-13A Automatic Electrical Controls for Household and Similar Use; Part 2: Particular Requirements for Humidity Sensing Controls

UL 60730-2-14 Automatic Electrical Controls for Household and Similar Use; Part 2: Particular Requirements for Electric Actuators

UL 60730-2-16A Automatic Electrical Controls for Household and Similar Use; Part 2: Particular Requirements for Automatic Electrical Water Level Controls

UL 61058-1 Switch for Appliances for Household and Similar Applications

The designations and titles of the above test standards were current at the time of the preparation of this notice.

OSHA's recognition of TUV, or any NRTL, for a particular test standard is limited to equipment or materials (i.e., products) for which OSHA standards require third party testing and certification before use in the workplace. Consequently, an NRTL's scope of recognition excludes any product(s) that fall within the scope of a test standard, but for which OSHA standards do not require NRTL testing and certification.

Many of the UL test standards listed above also are approved as American National Standards by the American National Standards Institute (ANSI). However, for convenience, we use the designation of the standards developing organization (e.g., UL 1008) for the standard, as opposed to the ANSI designation (e.g., ANSI/UL 1008). Under our procedures, any NRTL recognized for an ANSI-approved test standard may use either the latest proprietary version of the test standard or the latest ANSI version of that standard. Contact “NSSN” (http://www.nssn.org), an organization partially sponsored by ANSI, to find out whether or not a test standard is currently ANSI-approved.

Existing Condition

Currently, OSHA imposes the following condition on its recognition of TUV. This condition would apply also to the recognition of the additional test standards and applies solely to TUV's NRTL operations. It is in addition to any other condition that OSHA normally imposes in its recognition of an organization as an NRTL.

TUV must have specific written testing procedures in place before testing products covered by any test standard for which it is recognized and must use these procedures in testing and certifying those products.

Preliminary Finding on the Application

TUV has submitted an acceptable request for expansion of its recognition as an NRTL. As mentioned, in connection with this request, OSHA has performed an on-site review of TUV's NRTL testing facility. The NRTL has resolved any discrepancies noted by the assessor following the review, and the assessor factored such resolution into the memo on the recommendation (see Exhibit 29).

Following a review of the application file, the assessor's recommendation, and other pertinent documents, the NRTL Program staff has concluded that OSHA can grant to TUV the expansion of recognition as an NRTL to use the additional test standards listed above, subject to the conditions as noted. The staff, therefore, recommended to the Assistant Secretary that the application be preliminarily approved.

Based upon the recommendations of the staff, the Assistant Secretary has made a preliminary finding that the TUV Rheinland of North America, Inc., can meet the requirements, as prescribed by 29 CFR 1910.7, for the expansion of recognition, subject to the above conditions. This preliminary finding does not constitute an interim or temporary approval of the application.

OSHA welcomes public comments, in sufficient detail, as to whether TUV has met the requirements of 29 CFR 1910.7 for expansion of its recognition as a Nationally Recognized Testing Laboratory. Your comments should consist of pertinent written documents and exhibits. To consider a comment, OSHA must receive it at the address provided above (see ADDRESSES), no later than the last date for comments (see DATES above). Should you need more time to comment, OSHA must receive your written request for extension at the address provided above no later than the last date for comments. You must include your reason(s) for any request for extension. OSHA will limit any extension to 30 days, unless the requester justifies a longer period. We may deny a request for extension if it is frivolous or otherwise unwarranted. You may obtain or review copies of TUV's requests, the on-site review reports, and all submitted comments, as received, by contacting the Docket Office, Room N2625, Occupational Safety and Health Administration, U.S. Department of Labor, at the above address. Docket No. NRTL3-92 contains all materials in the record concerning TUV's application.

The NRTL Program staff will review all timely comments, and after resolution of issues raised by these comments, will recommend whether to grant TUV's expansion request. The Agency will make the final decision on granting the expansion, and in making this decision, may undertake other proceedings that are prescribed in appendix A to 29 CFR 1910.7. OSHA will publish a public notice of this final decision in the Federal Register.

Signed at Washington, DC, this 25th day of February, 2003.
John L. Henshaw,
Assistant Secretary.

[FR Doc. 03-5051 Filed 3-3-03; 8:45 am]

BILLING CODE 4510-26-P